GENERAL SERVICES ADMINISTRATION

[Notice-MG-2012-01; Docket No. 2012-0002; Sequence 2]

Office of Federal High-Performance Green Buildings; the Green Building Advisory Committee; Notification of Upcoming Public Advisory Teleconference Meetings

AGENCY: Office of Governmentwide Policy, General Services Administration (GSA).

ACTION: Teleconference Meeting Notice.

SUMMARY: This notice provides the schedule for three teleconference meetings of the Green Building Advisory Committee (the Committee). The teleconference meetings are open to the public. Notice of this meeting is being provided according to the requirements of the Federal Advisory Committee Act, 5 U.S.C. App. 10(a)(2).

DATES: Effective date: January 17, 2012.

Teleconference Meeting Dates: The teleconferences will be held on Monday, January 30, 2012; Monday, February 27, 2012; and Monday, March 26, 2012. Each teleconference will start at 3 p.m. Eastern time and end no later than 5 p.m.

FOR FURTHER INFORMATION CONTACT: Ken Sandler, Designated Federal Officer, Office of Federal High Performance Green Buildings, Office of Governmentwide Policy, General Services Administration, 1275 First Street NE., Room 633D, Washington, DC 20417, telephone (202) 219-1121 (note: this is not a toll-free number). Email: ken.sandler@gsa.gov.

Contact Tyler Telesford at (202) 501-9153 or Sheila Turner at (202) 501-8880 to receive the teleconference call-in number to listen to the teleconference, as well as to obtain advance meeting materials. The public is invited to submit written comments relevant to the topics covered in these teleconferences by written statement to Ken Sandler at the GSA address above or at ken.sandler@gsa.gov until April 9, 2012.

SUPPLEMENTARY INFORMATION:

Background

The Green Building Advisory Committee provides advice to GSA as specified in Public Law 110-140, under the Federal Advisory Committee Act. Under this authority, the Committee will advise GSA on the rapid transformation of the Federal building portfolio to sustainable technologies and practices. The Committee focuses primarily on reviewing strategic plans, products and activities of the Office of Federal High-Performance Green Buildings and providing advice regarding how the Office can most effectively accomplish its mission.

Agenda

Monday, January 30, 2012

• Overall GSA Office of Federal High-Performance Green Buildings (OFHPGB) strategy and project plan.

• National Research Council Levers for Change report.

Following are the proposed topics for the February and March teleconference meetings. More detailed agendas will be available closer to the meetings. Please contact the Designated Federal Officer, Ken Sandler at the email address or telephone number above.

Monday, February 27, 2012

• “Blue sky” discussion: best opportunities for transformative change to Federal sustainable buildings.

Monday, March 26, 2012

• Communications/Research into Practice Knowledge Hub.

• High-Performance Building Demonstration Projects.

Dated: January 10, 2012.
John C. Thomas,
Deputy Director, Office of Committee and Regulatory Management, Office of Governmentwide Policy, General Services Administration.

[FR Doc. 2012-622 Filed 1-13-12; 8:45 am]

BILLING CODE 6820-27-P